ENVIRONMENTAL PROTECTION AGENCY

40 CFR Part 271

[EPA-R10-RCRA-2010-0947; FRL-9236-9]

Oregon; Correction of Federal Authorization of the State's Hazardous Waste Management Program

AGENCY: Environmental Protection Agency (EPA).

ACTION: Proposed rule.

SUMMARY: The EPA Region 10 proposes to approve a correction to the State of Oregon's federally authorized RCRA hazardous waste management program. On January 7, 2010, EPA published a final rule under docket EPA-R10-RCRA 2009-0766 granting final authorization for changes the State of Oregon made to its federally authorized RCRA Hazardous Waste Management Program. These authorized changes included, among others, the Federal Recycled Used Oil Management Standards; Clarification rule, promulgated on July 30, 2003. During a post-authorization review of the State of Oregon's regulations, EPA identified that the Oregon Administrative Rules (OAR), related to the federal used oil management requirements (OAR 340-100-0002), had not been updated to include the adoption of the Federal Recycled Used Oil Management Standards; Clarification rule. Therefore, the State did not have an effective state rule and EPA inaccurately referenced this rule in the State's Final Authorization Action published and effective on January 7, 2010. This action will correct the State of Oregon's federally authorized program, by removing the inaccurate authorization reference to the federal Recycled Used Oil Management Standards; Clarification rule.

DATES: Comments on this proposed action must be received in writing on or before January 10, 2011.

ADDRESSES: Submit your comments, identified by Docket ID No. EPA-R10-RCRA-2010-0947, by one of the following methods:

• http://www.regulations.gov: Follow the on-line instructions for submitting comments.

• E-mail: Kocourek.Nina@epa.gov.

• Fax: (206) 553-8509, to the attention of Nina Kocourek.

• Mail: Send written comments to Nina Kocourek, U.S. EPA, Region 10, 1200 Sixth Avenue, Suite 900, Mail Stop AWT-122, Seattle, Washington 98101.

• Hand Delivery or Courier: Deliver your comments to: Nina Kocourek, U.S. EPA, Region 10, 1200 Sixth Avenue, Suite 900, Mail Stop AWT-122, Seattle, Washington 98101. Such deliveries are only accepted during the Office's normal hours of operation.

For detailed instructions on how to submit comments, please see the direct final rule which is located in the Rules section of this Federal Register.

FOR FURTHER INFORMATION CONTACT: Nina Kocourek at (206) 553-6502 or by e-mail at Kocourek.Nina@epa.gov.

SUPPLEMENTARY INFORMATION: In the Rules section of this Federal Register, EPA is approving Oregon's Authorization of State Hazardous Waste Management Program Revision though a direct final rule without prior proposal because the Agency views this as a noncontroversial action and anticipates no adverse comments to this action. Unless we get written adverse comments which oppose this approval during the comment period, the direct final rule will become effective on the date it establishes, and we will not take further action on this proposal. If EPA receives adverse comments, the direct final rule will be withdrawn and all public comments received will be addressed in a subsequent final rule. EPA will not institute a second comment period on this action. Any parties interested in commenting on this action should do so at this time. For additional information, see the direct rule which is located in the Rules section of this Federal Register.

Dated: December 1, 2010.
Dennis J. McLerran,
Regional Administrator, EPA Region 10.

[FR Doc. 2010-31011 Filed 12-8-10; 8:45 am]

BILLING CODE 6560-50-P